NUCLEAR REGULATORY COMMISSION

Application for a License To Export a Utilization Facility

Pursuant to 10 CFR 110.70(b)(1) “Public notice of receipt of an application,” please take notice that the Nuclear Regulatory Commission has received the following request for an export license. Copies of the request are available electronically through ADAMS and can be accessed through the Public Electronic Reading Room (PERR) link http://www.nrc.gov/NRC/ADAMS/index.html at the NRC home page.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

In its review of the application for a license to export a utilization facility as defined in 10 CFR part 110 and noticed herein, the Commission does not evaluate the health, safety or environmental effects in the recipient nation of the facility to be exported. The information concerning the application follows.

NRC Export License Application for a Utilization Facility
Name of Applicant:
Westinghouse Electric Company | Description of Facility: Major equipment, replacement parts and components for construction of four (4) utilization facilities (pressurized water reactors) of between 900 to 1500 MWe each. | End Use: For electricity generation at the Ling Ao Site and San Men Site | Country of Destination: People's Republic of China
Date of Application:
February 25, 2004
Date Received:
Febuary 26, 2004
Application Number:
XR169 | Approximate Value: $2.5 Billion
Docket Number:
11005472

For the Nuclear Regulatory Commission.
Dated this 10th day of March 2004 in Rockville, Maryland.
Edward T. Baker,
Deputy Director, Office of International Programs.

[FR Doc. E4-607 Filed 3-16-04; 8:45 am]

BILLING CODE 7590-01-P